Title 3—

The President

Presidential Determination No. 2013-12 of August 9, 2013—Continuation of U.S. Drug Interdiction Assistance to the Government of Colombia

Correction

In Presidential document 2013-20465 beginning on page 51647 in the issue of Tuesday, August 20, 2013, make the following correction:

On page 51647, the heading of the document was omitted and should read “Continuation of U.S. Drug Interdiction Assistance to the Government of Colombia”.

[FR Doc. C1-2013-20465

Filed 12-05-13; 8:45 a.m.]

Billing Code 1505-01-D